DEPARTMENT OF TRANSPORTATION

Federal Motor Carrier Safety Administration

[Docket No. FMCSA-2006-25246]

Qualification of Drivers; Exemption Applications; Vision

AGENCY: Federal Motor Carrier Safety Administration (FMCSA), DOT.

ACTION: Notice of applications for exemptions; request for comments.

SUMMARY: FMCSA announces receipt of applications from 32 individuals for exemptions from the vision requirement in the Federal Motor Carrier Safety Regulations. If granted, the exemptions would enable these individuals to qualify as drivers of commercial motor vehicles (CMVs) in interstate commerce without meeting the Federal vision standard.

DATES: Comments must be received on or before February 2, 2007.

ADDRESSES: You may submit comments identified by Department of Transportation (DOT) Docket Management System (DMS) Docket Number FMCSA-2006-25246 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 32 individuals listed in this Notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Kreis C. Baldridge

Mr. Baldridge, age 53, has a macular scar in his right eye due to an injury sustained over 20 years ago. The best corrected visual acuity in his right eye is 20/200 and in the left, 20/20. Following an examination in 2006, his optometrist noted, “In my opinion, Mr. Baldridge has sufficient vision to perform commercial driving tasks.” Mr. Baldridge reported that he has driven buses for 14 years, accumulating 462,000 miles. He holds a Class D operator's license from Tennessee. His driving record for the last 3 years shows no crashes and no convictions for moving violations in a CMV.

James L. Baynes

Mr. Baynes, 66, has loss of vision in his right eye due to a traumatic injury sustained during childhood. The best corrected visual acuity in his right eye is count-finger vision and in the left, 20/20. Following an examination in 2006, his optometrist noted, “This is a stable condition and in my opinion, Mr. Baynes has sufficient vision to perform the driving tasks required to operate a commercial vehicle.” Mr. Baynes reported that he has driven straight trucks for 47 years, accumulating 188,000 miles, and tractor-trailer combinations for 21 years, accumulating 1.1 million miles. He holds a Class A Commercial Driving License (CDL) from Tennessee. His driving record for the last 3 years shows no crashes and one conviction for a moving violation in a CMV, failure to obey a traffic signal.

Daniel H. Bungartz

Mr. Bungartz, 57, has had optic nerve atrophy and corneal scarring in his right eye since birth. The best corrected visual acuity in his right eye is light perception and in the left, 20/15. Following an examination in 2006, his optometrist noted, “From examination of Mr. Bungartz, it is my medical opinion that he has sufficient visual field and acuity to operate a commercial vehicle.” Mr. Bungartz reported that he has driven straight trucks for 13 years, accumulating 624,000 miles, and tractor-trailer combinations for 20 years, accumulating 600,000 miles. He holds a Class A CDL from Wisconsin. His driving record for the last 3 years shows no crashes and no convictions for moving violations in a CMV.

Thomas L. Carter

Mr. Carter, 56, has loss of vision in his left eye due to corneal scarring caused by a traumatic injury sustained in 1986. The best corrected visual acuity in his right eye is 20/20 and in the left, 20/400. Following an examination in 2006, his optometrist noted, “It is my professional opinion that Mr. Carter has sufficient vision to perform the driving tasks required to operate a commercial vehicle.” Mr. Carter reported that he has driven straight trucks for 38 years, accumulating 1 million miles. He holds a Class A CDL from Oklahoma. His driving record for the last 3 years shows no crashes and no convictions for moving violations in a CMV.

Orlando Colon

Mr. Colon, 47, has complete loss of vision in his right eye due to a traumatic injury sustained during childhood. The best corrected visual acuity in his left eye is 20/20. Following an examination in 2006, his optometrist noted, “It is my medical opinion that Mr. Colon has sufficient vision to perform the driving tasks required to operate a commercial vehicle.” Mr. Colon reported that he has driven straight trucks for 17 years, accumulating 110,500 miles. He holds a Class B CDL from Florida. His driving record for the last 3 years shows no crashes and no convictions for moving violations in a CMV.

Donald D. Daniels

Mr. Daniels, 45, has ocular histoplasmosis syndrome in both eyes. The visual acuity in his right eye is 20/200 and in the left, 20/20. Following an examination in 2006, his optometrist noted, “Mr. Daniels has operated a commercial vehicle for more than 20 years without incident. In my opinion, he has adequate vision to continue to operate a vehicle safely.” Mr. Daniels reported that he has driven straight trucks for 10 years, accumulating 600,000 miles, and tractor-trailer combinations for 3 years, accumulating 216,000 miles. He holds a Class A CDL from Mississippi. His driving record for the last 3 years shows no crashes and no convictions for moving violations in a CMV.

Jimmy W. Deadwyler

Mr. Deadwyler, 50, has a corneal scar in his right eye due to a laceration injury sustained as a child. The best corrected visual acuity in his right eye is 20/400 and in the left, 20/25. Following an examination in 2006, his ophthalmologist noted, “After comprehensive examination, it is my professional opinion that he has sufficient vision to perform the driving tasks required to operate a commercial vehicle.” Mr. Daniels reported that he has driven straight trucks for 28 years, accumulating 1 million miles. He holds a Class B CDL from Georgia. His driving record for the last 3 years shows no crashes and no convictions for moving violations in a CMV.

William E. Dolson

Mr. Dolson, 68, has a prosthetic right eye due to an injury sustained during childhood. The best corrected visual acuity in his left eye is 20/20. Following an examination in 2006, his optometrist noted, “In my opinion, Mr. Dolson has sufficient functional vision for safe operation of a commercial motor vehicle.” Mr. Dolson reported that he has driven tractor-trailer combinations for 44 years, accumulating 3.6 million miles. He holds a Class A CDL from Delaware. His driving record for the last 3 years shows no crashes and one conviction for a moving violation in a CMV. He exceeded the speed limit by 18 mph.

Michael A. Fouch

Mr. Fouch, 47, has had amblyopia in his left eye since birth. The best corrected visual acuity in his right eye is 20/20 and in the left, 20/400. Following an examination in 2006, his optometrist noted, “Based on his excellent past driving history, and our findings of his recent eye examinations, I feel that he has sufficient vision to perform the driving tasks required to operate a commercial vehicle.” Mr. Fouch reported that he has driven straight trucks for 25 years, accumulating 250,000 miles. He holds a Class B CDL from New Jersey. His driving record for the last 3 years shows no crashes and no convictions for moving violations in a CMV.

Paul R. Kerpsie

Mr. Kerpsie, 56, has had amblyopia in his left eye since childhood. The best corrected visual acuity in his right eye is 20/20 and in the left, 20/50. Following an examination in 2006, his optometrist noted, “Mr. Kerpsie has successfully driven a commercial vehicle for many years. I feel he has sufficient vision to operate a commercial vehicle.” Mr. Kerpsie reported that he has driven straight trucks for 29 years, accumulating 255,200 miles. He holds a Class C operator's license from California. His driving record for the last 3 years shows no crashes and no convictions for moving violations in a CMV.

Gerald D. Larson

Mr. Larson, 34, has loss of vision in his right eye due to a traumatic injury sustained in 1996. The best corrected visual acuity in his right eye is light perception and in the left, 20/20. Following an examination in 2006, his optometrist noted, “It is my medical opinion that Mr. Larson has sufficient vision to perform the tasks required to operate a commercial vehicle.” Mr. Larson reported that he has driven straight trucks for 12 years, accumulating 450,000 miles. He holds a Class A CDL from Wisconsin. His driving record for the last 3 years shows one crash and no convictions for moving violations in a CMV.

Carl A. Lohrbach

Mr. Lohrbach, 55, has retinal vein occlusion with subsequent glaucoma and optic nerve dysfunction in his right eye since 1999. The best corrected visual acuity in his right eye is count-finger-vision and in the left, 20/15. Following an examination in 2006, his ophthalmologist noted, “It is my personal opinion that Mr. Carl Lohrbach is able to drive a commercial vehicle.” Mr. Lohrbach reported that he has driven tractor-trailer combinations for 34 years, accumulating 295,800 miles. He holds a Class A CDL from Ohio. His driving record for the last 3 years shows no crashes and no convictions for moving violations in a CMV.

Donald R. McCracken

Mr. McCracken, 61, has had an atrophic macular lesion in his left eye since 1991. The best corrected visual acuity in his right eye is 20/20 and in the left, 20/200. Following an examination in 2006, his ophthalmologist noted, “In light of the stability of Mr. McCracken's condition, it is my medical opinion that his vision is sufficient enough to perform the driving tasks required to operate a commercial vehicle.” Mr. McCracken reported that he has driven tractor-trailer combinations for 35 years, accumulating 3.9 million miles. He holds a Class A CDL from Oregon. His driving record for the last 3 years shows no crashes and no convictions for moving violations in a CMV.

Sharon D. McDaniel

Ms. McDaniel, 44, has had a macular scarring in her left eye due to persistent primary vitreous since birth. The best corrected visual acuity in her right eye is 20/20 and in the left, 20/70. Following an examination in 2006, her optometrist noted, “In my professional opinion, Sharon has sufficient vision to perform the driving tasks required to operate a commercial vehicle.” Ms. McDaniel reported that she has driven buses for 8 years, accumulating 144,400 miles. She holds a Class B CDL from Nevada. Her driving record for the last 3 years shows no crashes and no convictions for moving violations in a CMV.

Larry E. McMillan

Mr. McMillan, 59, has a prosthetic right eye due to a traumatic injury sustained as a child. The visual acuity in his left eye is 20/20. Following an examination in 2006, his optometrist noted, “Mr. McMillan has been driving for years with only one eye and can perform any driving task required to operate a commercial vehicle.” Mr. McMillan reported that he has driven straight trucks for 10 years, accumulating 48,000 miles, and tractor-trailer combinations for 2 years, accumulating 24,000 miles. He holds a Class A CDL from Tennessee. His driving record for the last 3 years shows no crashes and no convictions for moving violations in a CMV.

James E. Menz

Mr. Menz, 45, has had amblyopia in his left eye since birth. The best corrected visual acuity in his right eye is 20/18 and in the left, 20/100. Following an examination in 2006, his ophthalmologist noted, “It is my considered medical opinion that Mr. Menz has sufficient vision to perform driving tasks required to operate a commercial vehicle during interstate commerce.” Mr. Menz reported that he has driven tractor-trailer combinations for 20 years, accumulating 2.3 million miles. He holds a Class A CDL from New York. His driving record for the last 3 years shows no crashes and no convictions for moving violations in a CMV.

William F. Nickel

Mr. Nickel, 39, has had amblyopia in his right eye since childhood. The best corrected visual acuity in his right eye is 20/60 and in the left, 20/20. Following an examination in 2006, his optometrist noted, “Mr. Nickel's vision is sufficient to operate commercial vehicles.” Mr. Nickel reported that he has driven straight trucks for 12 years, accumulating 122,580 miles, and tractor-trailer combinations for 10 years, accumulating 407,310 miles. He holds a Class A CDL from Oregon. His driving record for the last 3 years shows no crashes and one conviction for a moving violation in a CMV. He exceeded the speed limit by 16 mph.

Jeffrey L. Olson

Mr. Olson, 47, has had amblyopia in his right eye since birth. The best corrected visual acuity in his right eye is 20/200 and in the left, 20/20. Following an examination in 2006, his optometrist noted, “It is our opinion that Mr. Olson has sufficient vision to perform the driving tasks required to operate a commercial vehicle.” Mr. Olson reported that he has driven straight trucks for 8 years, accumulating 56,000 miles, tractor-trailer combinations for 3 years, accumulating 9,000 miles, and buses for 7 years, accumulating 105,000 miles. He holds a Class A CDL from Minnesota. His driving record for the last 3 years shows no crashes and no convictions for moving violations in a CMV.

John J. Payne

Mr. Payne, 54, has had amblyopia in his right eye since childhood. The best corrected visual acuity in his right eye is 20/80 and in the left, 20/20. Following an examination in 2006, his optometrist noted, “It is my considered opinion that Mr. Payne, given his age and binocularity of vision, should maintain a commercial driving permit.” Mr. Payne reported that he has driven straight trucks for 30 years, accumulating 450,000 miles, and tractor-trailer combinations for 30 years, accumulating 300,000 miles. He holds a Class A CDL from Florida. His driving record for the last 3 years shows no crashes and no convictions for moving violations in a CMV.

Chris H. Pedersen

Mr. Pedersen, 56, has loss of vision in his right eye due to a corneal transplant that occurred in 1990. The best corrected visual acuity in his right eye is 20/60 and in the left, 20/20. Following an examination in 2006, his optometrist noted, “In my medical opinion, Mr. Pedersen has sufficient vision to perform the driving tasks required to operate a commercial vehicle.” Mr. Pedersen reported that he has driven straight trucks for 22 years, accumulating 228,800 miles. He holds a Class C operator's license from California. His driving record for the last 3 years shows no crashes and no convictions for moving violations in a CMV.

Timmy J. Pottebaum

Mr. Pottebaum, 35, has loss of vision in his right eye due to complications of cataracts at birth. The best corrected visual acuity in his right eye is 20/63 and in the left, 20/30. Following an examination in 2006, his optometrist noted, “Based on these findings, I feel Mr. Pottebaum has the visual abilities to safely continue to operate a commercial motor vehicle in interstate commerce because his visual loss has been present all of his life.” Mr. Pottebaum reported that he has driven straight trucks for 7 years, accumulating 10,920 miles, and tractor-trailer combinations for 7 years, accumulating 49,140 miles. He holds a Class A CDL from Iowa. His driving record for the last 3 years shows no crashes and no convictions for moving violations in a CMV.

Jerald W. Rehnke

Mr. Rehnke, 60, has multifocal choroiditis with macular scarring in his right eye since 2003. The best corrected visual acuity in his right eye is 20/80 and in the left, 20/20. Following an examination in 2006, his ophthalmologist noted, “It is my medical opinion that this patient has sufficient vision to perform the driving tasks required to operate a commercial vehicle.” Mr. Rehnke reported that he has driven straight trucks for 34 years, accumulating 510,000 miles, and tractor-trailer combinations for 10 years, accumulating 1.2 million miles. He holds a Class A CDL from Minnesota. His driving record for the last 3 years shows no crashes and two convictions for moving violations in a CMV. He exceeded the speed limit by 14 mph in one case, and in other, by 8 mph.

Donnie R. Riggs

Mr. Riggs, 46, has had loss of vision in his right eye due to ocular trauma sustained in 1969. The best corrected visual acuity in his right eye is 20/400 and in the left, 20/20. Following an examination in 2006, his optometrist noted, “In my opinion, the patient is able to operate a commercial vehicle with his current vision status.” Mr. Riggs reported that he has driven straight trucks for 17 years, accumulating 1 million miles, and tractor-trailer combinations for 8 years, accumulating 480,000 miles. He holds a Class D operator's license from Alabama. His driving record for the last 3 years shows no crashes and no convictions for moving violations in a CMV.

Luis H. Sanchez

Mr. Sanchez, 38, has had amblyopia in his right eye since childhood. The visual acuity in his right eye is 20/200 and in the left, 20/15. Following an examination in 2006, his optometrist noted, “In my medical opinion, I certify that Mr. Luis Sanchez has sufficient vision to perform the driving tasks required to operate a commercial vehicle.” Mr. Sanchez reported that he has driven straight trucks for 17 years, accumulating 102,000 miles. He holds a Class D operator's license from Wisconsin. His driving record for the last 3 years shows no crashes and no convictions for moving violations in a CMV.

James A. Shepard

Mr. Shepard, 52, has had a cataract in his right eye since birth. The visual acuity in his right eye is light perception and in the left, 20/20. Following an examination in 2006, his ophthalmologist noted, “In my medical opinion, the patient has sufficient vision to perform the driving tasks required to operate a commercial vehicle.” Mr. Shepard reported that he has driven straight trucks for 24 years, accumulating 1.2 million miles, and tractor-trailer combinations for 24 years, accumulating 2.5 million miles. He holds a Class A CDL from New York. His driving record for the last 3 years shows no crashes and one conviction for a moving violation in a CMV. He exceeded the speed limit by 15 mph.

Timothy L. Shorey

Mr. Shorey, 36, has had amblyopia in his right eye since birth. The best corrected visual acuity in his right eye is 20/400 and in the left, 20/20. Following an examination in 2006, his optometrist noted, “In my medical opinion, I feel Tim has sufficient visual function to perform the driving tasks required to operate a commercial vehicle.” Mr. Shorey reported that he has driven straight trucks for 17 years, accumulating 680,000 miles. He holds a Class A CDL from Wisconsin. His driving record for the last 3 years shows no crashes and no convictions for moving violations in a CMV.

Herbert W. Smith

Mr. Smith, 52, has had amblyopia in his left eye since childhood. The best corrected visual acuity in his right eye is 20/15 and in the left, 20/80. Following an examination in 2006, his ophthalmologist noted, “It is my professional opinion that Mr. Smith has no current ocular health concern and has more than adequate visual capabilities to operate a commercial vehicle with no restrictions, other than need for prescription glasses.” Mr. Smith reported that he has driven straight trucks for 4 years, accumulating 160,000 miles. He holds a Class D operator's license from West Virginia. His driving record for the last 3 years shows no crashes and no convictions for moving violations in a CMV.

Phillip L. Smith

Mr. Smith, 57, has had amblyopia in his right eye since childhood. The best corrected visual acuity in his right eye is hand-motion and in the left, 20/20. Following an examination in 2006, his ophthalmologist noted, “In my medical opinion, Mr. Phillip Smith has sufficient vision to perform the driving tasks required to operate a commercial vehicle.” Mr. Smith reported that he has driven straight trucks for 13 years, accumulating 3.3 million miles. He holds a Class A CDL from Texas. His driving record for the last 3 years shows no crashes and no convictions for moving violations in a CMV.

Randall S. Surber

Mr. Surber, 45, has complete loss of vision in his left eye due to a retinal detachment that occurred in 1983. The visual acuity in his right eye is 20/15 and in the left, no light perception. Following an examination in 2006, his optometrist noted, “In my professional opinion, Randall has sufficient vision to perform the driving tasks required to operate a commercial vehicle.” Mr. Surber reported that he has driven straight trucks for 25 years, accumulating 1 million miles, and tractor-trailer combinations for 17 years, accumulating 1.4 million miles. He holds a Class A CDL from West Virginia. His driving record for the last 3 years shows no crashes and no convictions for moving violations in a CMV.

Roger A. Thein, Jr.

Mr. Thein, 39, has had amblyopia in his right eye since childhood. The visual acuity in his right eye is 20/50 and in the left, 20/20. Following an examination in 2006, his ophthalmologist noted, “This slightly limited visual acuity on testing of the right eye along with his outstanding visual acuity of the left eye and absolutely normal visual field, in my medical opinion, certainly gives him a level of vision to perform his driving tasks in a commercial vehicle safely.” Mr. Thein reported that he has driven straight trucks for 20 years, accumulating 832,000 miles. He holds a Class D operator's license from Wisconsin. His driving record for the last 3 years shows one crash, for which he was cited, and no convictions for moving violations in a CMV.

Ernest W. Waff

Mr. Waff, 55, has complete loss of vision in his left eye due to a retinal detachment that he has had for 25 years. The best corrected visual acuity in his right eye is 20/20. Following an examination in 2006, his ophthalmologist noted, “He has sufficient vision to perform the driving tasks to operate a commercial vehicle.” Mr. Waff reported that he has driven straight trucks for 34 years, accumulating 221,000 miles. He holds a Class C operator's license from Virginia. His driving record for the last 3 years shows no crashes and no convictions for moving violations in a CMV.

Mikiel J. Wagner

Mr. Wagner, 51, has loss of vision in his right eye due to keratoconus and later corneal decompensation. The visual acuity in his right eye is light perception and in the left, 20/20. Following an examination in 2006, his ophthalmologist noted, “I believe he has satisfactory visual function to operate a commercial vehicle.” Mr. Wagner reported that he has driven straight trucks for 25 years, accumulating 650,000 miles. He holds a Class C operator's license from California. His driving record for the last 3 years shows no crashes and no convictions for moving violations in a CMV.

Joseph W. Wigley

Mr. Wigley, 42, has loss of vision in his left eye due to a traumatic injury sustained in 1985. The best corrected visual acuity in his right eye is 20/20 and in the left, no light perception. Following an examination in 2006, his optometrist noted, “In our professional medical opinion, Mr. Wigley has sufficient vision to perform the driving tasks required to operate commercial vehicle.” Mr. Wigley reported that he has driven straight trucks for 18 years, accumulating 153,000 miles. He holds a Class D operator's license from Arkansas. His driving record for the last 3 years shows no crashes and no convictions for moving violations in a CMV.

Request for Comments

In accordance with 49 U.S.C. 31136(e) and 31315, FMCSA requests public comment from all interested persons on the exemption petitions described in this Notice. The Agency will consider all comments received before the close of business February 1, 2007. Comments will be available for examination in the docket at the location listed under the ADDRESSES section of this Notice. The Agency will file comments received after the comment closing date in the public docket, and will consider them to the extent practicable. In addition to late comments, FMCSA will also continue to file, in the public docket, relevant information that becomes available after the comment closing date. Interested persons should monitor the public docket for new material.

Issued on: December 20, 2006.
Rose A. McMurray,
Associate Administrator, Policy and Program Development.

[FR Doc. E6-22503 Filed 12-29-06; 8:45 am]

BILLING CODE 4910-EX-P